DEPARTMENT OF VETERANS AFFAIRS

Special Medical Advisory Group, Notice of Meeting

The Department of Veterans Affairs (VA) gives notice under the Federal Advisory Committee Act that a meeting of the Special Medical Advisory Group (the Committee) will be held on Friday, March 20, 2020 at the VA Pittsburgh Healthcare System, 4100 Allequippa Street, Pittsburgh, PA 15219, and at the Human Engineering Research Laboratories (HERL), 6425 Penn Avenue, Suite 400, Pittsburgh, PA 15206. The meeting is open to the public except when the Committee is conducting a tour of the medical center. Tours of VA Medical Centers (VAMC) are closed to protect Veterans' privacy and personal information in accordance with 5 U.S.C Sec. 552b(c)(6). The meeting session will follow the below schedule:

7:00 a.m. to 8:30 a.m. EST | Closed to the Public—Tour at VAMC.
8:30 a.m. to 11:00 a.m. EST | Open to the public—Meeting at VAMC.
12:00 p.m. to 2:30 p.m. EST | Open to the Public—Tour and Meeting at HERL.

The purpose of the Committee is to advise the Secretary of Veterans Affairs and the Under Secretary for Health on the care and treatment of Veterans, and other matters pertinent to the Veterans Health Administration (VHA).

On March 20, 2020 the agenda for the meeting will include discussions regarding the VHA 2020 Goals, Precision Oncology and the Redesign of VHA Central Office.

Although no time will be allocated for receiving oral presentations from the public, members of the public may submit written statements for review by the Committee to: Ms. Brenda R. Faas, Designated Federal Officer, Veterans Health Administration (10B), 810 Vermont Avenue NW, Washington, DC 20420 or by email at VASMAGDFO@va.gov. Comments will be accepted until close of business on March 13, 2020. In the communication, the writers must identify themselves and state the organization, association of person(s) they represent.

Any member of the public wishing to attend the meeting or seeking additional information should email VASMAGDFO@va.gov or call 202-461-7005, no later than close of business on March 13, 2020.

Dated: February 27, 2020.
LaTonya L. Small,
Federal Advisory Committee Management Officer.

[FR Doc. 2020-04300 Filed 3-2-20; 8:45 am]

BILLING CODE P